FEDERAL RESERVE SYSTEM

Formations of, Acquisitions by, and Mergers of Bank Holding Companies; Correction

This notice corrects a notice (FR Doc. 02-6783) published on page 13183 of the issue for Thursday, March 21, 2002.

Under the Federal Reserve Bank of Kansas City heading, the entry for Country Square Bancshares, Inc., Meriden, Kansas, is revised to read as follows:

A. Federal Reserve Bank of Kansas City (Susan Zubradt, Assistant Vice President) 925 Grand Avenue, Kansas City, Missouri 64198-0001:

1. Countryside Square Bancshares, Inc., Meriden, Kansas; to become a bank holding company by acquiring 100 percent of the voting shares of The State Bank of Meriden, Meriden, Kansas.

Comments on this application must be received by April 15, 2002.

Board of Governors of the Federal Reserve System, March 25, 2002.
Robert deV. Frierson,
Deputy Secretary of the Board.

[FR Doc. 02-7552 Filed 3-28-02; 8:45 am]

BILLING CODE 6210-01-S